DEPARTMENT OF THE INTERIOR

Fish and Wildlife Service

Information Collection Renewal; OMB Control Number 1018-0121; Depredation Orders for Double-Crested Cormorants, 50 CFR 21.47 and 21.48

AGENCY: Fish and Wildlife Service, Interior.

ACTION: Notice; request for comments.

SUMMARY: We (Fish and Wildlife Service) plan to request that OMB renew approval for our information collections associated with regulations authorizing the take of double-crested cormorants. The current OMB control number for this information collection is 1018-0121, which expires October 31, 2006. We will ask OMB to renew approval of this information collection for a 3-year term.

DATES: You must submit comments on or before June 19, 2006.

ADDRESSES: Send your comments on the information collection to Hope Grey, Information Collection Clearance Officer, Fish and Wildlife Service, MS 222-ARLSQ, 4401 North Fairfax Drive, Arlington, VA 22203 (mail); hope_grey@fws.gov (e-mail); or (703) 358-2269 (fax).

FOR FURTHER INFORMATION CONTACT: To request a copy of the information collection requirement or explanatory information, contact Hope Grey at the addresses above or by telephone at (703) 358-2482.

SUPPLEMENTARY INFORMATION: OMB regulations at 5 CFR 1320, which implement provisions of the Paperwork Reduction Act of 1995 (44 U.S.C. 3501 et seq.), require that interested members of the public and affected agencies have an opportunity to comment on information collection and recordkeeping activities (see 5 CFR 1320.8(d)). Federal agencies may not conduct or sponsor and a person is not required to respond to a collection of information unless it displays a currently valid OMB control number.

This information collection is associated with regulations implementing the Migratory Bird Treaty Act (MBTA) (16 U.S.C. 703 et seq.). The MBTA implements four treaties concerning migratory birds that the United States has signed with Canada, Mexico, Japan, and Russia. The treaties preserve and protect various species of birds. Under the MBTA, it is unlawful to take, possess, import, export, transport, sell, purchase, barter, or offer for sale, purchase, or barter, any migratory bird, their parts, nests, or eggs, except as authorized by regulations implementing the MBTA. In 2003, we promulgated regulations (50 CFR 21.47, Aquaculture Depredation Order, and 21.48, Public Resource Depredation Order) to authorize the take of double-crested cormorants (DCCOs) under certain circumstances.

Aquaculture producers may take DCCOs when the birds are found committing or about to commit depredations on commercial freshwater aquaculture stocks (50 CFR 21.47). Persons operating under this order must:

(a) Immediately report the take of a migratory bird species other than double-crested cormorants to the appropriate Service Regional Migratory Bird Permit Office.

(b) Immediately report the take of species protected under the Endangered Species Act to the Service.

(c) Keep a log recording the date, number, and location of all birds killed each year under this authorization; maintain this log for a period of 3 years (and maintain records for 3 previous years of takings at all times thereafter); and each year, provide the previous year's log to the appropriate Service Regional Migratory Bird Permit Office.

Our regulations at 50 CFR 21.48 authorize State fish and wildlife agencies, U.S. Department of Agriculture (APHIS-Wildlife Services), and Federally recognized tribes in 24 States to take DCCOs to prevent depredations on the public resources of fish, wildlife, plants, and their habitats. Responsible agencies operating under this order must:

(a) Provide a one-time written notice to the appropriate Service Regional Migratory Bird Permit Office indicating that they intend to act under this order.

(b) Provide a report to the Service detailing activities conducted under the authority of this order, including:

(1) Summary (by date and location) of the number of double-crested cormorants killed and/or number of nests in which eggs were oiled;

(2) Statement of efforts being made to minimize incidental take of nontarget species and a report of the number and species of migratory birds involved in such take, if any;

(3) Description of the impacts or anticipated impacts to public resources by double-crested cormorants and a statement of the management objectives for the area in question;

(4) Description of the evidence supporting the conclusion that double-crested cormorants are causing or will cause these impacts;

(5) Discussion of other limiting factors affecting the resource (e.g., biological, environmental, and socioeconomic); and

(6) Discussion of how control efforts are expected to, or actually did, alleviate resource impacts.

(c) Evaluate, by means of collecting data or using best available information, effects of management activities on the public resources being protected and on nontarget species, and include this information in the report mentioned in (b) above.

Title: Depredation Orders for Double-Crested Cormorants, 50 CFR 21.47 and 21.48.

OMB Control Number: 1018-0121.

Service Form Number: None.

Frequency of Collection: Annual, except that reporting of accidental take is on occasion.

Description of Respondents: Aquaculture producers, State fish and wildlife agencies, tribes, and Federal agencies.

Activity | Number of respondents | Number of responses | Estimated completion time (hrs) | Total annual burden hrs
Report take of migratory bird species other than DCCOs | 2 | 2 | 1 | 2
Report take of species protected under the Endangered Species Act | 1 | 1 | 1 | 1
Written notice of intent to conduct control activities | 12 | 12 | 2 | 24
Report of activities conducted under 50 CFR 21.48 | 8 | 8 | 8 | 64
Report effects of management activities | 8 | 8 | 80 | 640
Recordkeeping under 50 CFR 21.47 | 900 | 900 | 2 | 1,800
Totals | 931 | 931 |  | 2,531

We invite comments concerning this information collection on: (1) Whether or not the collection of information is necessary, including whether or not the information will have practical utility; (2) the accuracy of our estimate of the burden for this collection of information; (3) ways to enhance the quality, utility, and clarity of the information to be collected; and, (4) ways to minimize the burden of the collection of information on respondents.

Dated: April 6, 2006.
Hope G. Grey,
Information Collection Clearance Officer, Fish and Wildlife Service.

[FR Doc. E6-5882 Filed 4-18-06; 8:45 am]

BILLING CODE 4310-55-P